DEPARTMENT OF ENERGY

Federal Energy Regulatory Commission

[Docket No. AD10-14-000]

Reliability Standards Development and NERC and Regional Entity Enforcement; Notice Soliciting Comments

July 7, 2010.

Take notice that on July 6, 2010, the Federal Energy Regulatory Commission held a Commissioner-led technical conference to explore issues pertaining to the development of mandatory Reliability Standards for the Bulk-Power System by the North American Electric Reliability Corporation. As previously noticed,¹ and as stated at the technical conference, any person interested may submit written comments regarding the issues discussed at the conference. Comments should be filed with the Commission in this docket, AD10-14-000, no later than July 26, 2010.

¹ Supplemental Notice of Technical Conference, 75 FR 36,385 (June 18, 2010).

Anyone with questions pertaining to the technical conference or this notice should contact either Karin Larson at 202-502-8236, Karin.Larson@ferc.gov or Christopher Young at 202-502-6403, Christopher.Young@ferc.gov.

Kimberly D. Bose,
Secretary.

[FR Doc. 2010-17101 Filed 7-13-10; 8:45 am]

BILLING CODE 6717-01-P